NATIONAL SCIENCE FOUNDATION

Proposal Review Panel for Physics; Notice of Meeting

In accordance with the Federal Advisory Committee Act (Pub. L. 92-463, as amended), the National Science Foundation announces the following meeting:

Name: LIGO Annual Review Site Visit at Hanford Observatory for Physics (1208).

Date and Time:

Tuesday, June 24, 2014; 8:00 a.m.-6:00 p.m.

Wednesday, June 25, 2014; 8:00 a.m.-6:00 p.m.

Thursday, June 26, 2014; 8:00 a.m.-12:00 p.m.

Place: LIGO site at Hanford, WA.

Type of Meeting: Partially Closed.

Contact Person: Mark Coles, Director of Large Facilities, Division of Physics, National Science Foundation, 4201 Wilson Blvd., Arlington, VA 22230. Telephone: (703) 292-4432.

Purpose of Meeting: To provide an evaluation of the project construction for implementation of the AdvLIGO project to the National Science Foundation.

Agenda

Tuesday, June 24, 2014

7:00 a.m. Depart from hotel

7:45 Open—Arrive at LIGO Hanford Observatory, check-in

8:00 Open—Panel session

8:30 Open—Introduction: LIGO, Advanced LIGO, the 3rd Interferometer

9:00 Open—Post-Project Operations activities

9:15 Open—Storage Plan Overview by subsystem, Q&A

10:30 Open—tour

12:30 Open—lunch

13:00 Closed—Executive Session

18:00 Closed—Closeout presentation by review panel

Wednesday, June 25, 2014

7:00 a.m. Depart from hotel

7:45 Open—Arrive at LIGO Hanford Observatory, check-in

8:00 Open—Panel session

8:30 Open—Introduction: LIGO, Advanced LIGO, the 3rd Interferometer

9:00 Open—Post-Project Operations activities

9:15 Open—Storage Plan Overview by subsystem, Q&A

10:30 Open—tour

12:30 Open—lunch

13:00 Closed—Executive Session

18:00 Closed—Closeout presentation by review panel

Thursday, June 26, 2014

7:00 a.m. Depart from hotel

7:45 Closed—Executive Session

8:00 Closed—Writing Report

12:00 Adjourn

Reason for Closing: The proposal to be discussed and evaluated during the site review will include information of a proprietary or confidential nature, including technical information, and information on personnel. These matters are exempt under 5 U.S.C. 552b(c), (4) and (6) of the Government in the Sunshine Act.

Dated: May 12, 2014.
Suzanne Plimpton,
Acting, Committee Management Officer.

[FR Doc. 2014-11300 Filed 5-15-14; 8:45 am]

BILLING CODE P